FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than January 23, 2004.

A. Federal Reserve Bank of Boston (Richard Walker, Community Affairs Officer) 600 Atlantic Avenue, Boston, Massachusetts 02106-2204:

1. Hampden Bancorp, MHC, Springfield, Massachusetts to become a bank holding company by acquiring 100 percent of the voting shares of Hampden Bank, and thereby indirectly acquire voting shares of Hampden Savings Bank, Springfield, Massachusetts.

B. Federal Reserve Bank of Atlanta (Sue Costello, Vice President) 1000 Peachtree Street, N.E., Atlanta, Georgia 30303:

1. Southwest Georgia Financial Corporation, Moultrie, Georgia; to acquire 100 percent of the voting shares of First Bank Holding Company, and thereby indirectly acquire voting shares of Sylvester Banking Company, Sylvester, Georgia.

C. Federal Reserve Bank of St. Louis (Randall C. Sumner, Vice President) 411 Locust Street, St. Louis, Missouri 63166-2034:

1. Pittsfield Community Bancorp, Inc., Pittsfield, Illinois; to become a bank holding company by acquiring 100 percent of the voting shares of Community Bank of Pittsfield, Pittsfield, Illinois, and Community State Bank of Plymouth, Plymouth, Illinois.

2. Templar Fund, Inc., St. Louis, Missouri; to acquire up to 43.7 percent of the voting shares of Truman Bancorp, Inc., St. Louis, Missouri, and thereby indirectly acquire voting shares of Truman Bank, St. Louis, Missouri.

D. Federal Reserve Bank of Dallas (W. Arthur Tribble, Vice President) 2200 North Pearl Street, Dallas, Texas 75201-2272:

1. Texas Regional Bancshares, Inc., McAllen, Texas, and Texas Regional Delaware, Inc., Wilmington, Delaware; to merge with Southeast Texas Bancshares, Inc., Beaumont, Texas, and thereby indirectly acquire voting shares of Texas Community Bancshares of Delaware, Wilmington, Delaware, and Community Bank and Trust, SSB, Beaumont, Texas.

2. Treaty Oak Holdings, Inc., and Treaty Oak Bancorp, Inc., both of Austin, Texas; to become bank holding companies by acquiring 100 percent of the voting shares of Texline State Bank, Texline, Texas.

Board of Governors of the Federal Reserve System, December 24, 2003.
Jennifer J. Johnson,
Secretary of the Board.

[FR Doc. 03-32271 Filed 12-31-03; 8:45 am]

BILLING CODE 6210-01-S